DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before April 12, 2010. Address written comments to Statutory Import Programs Staff, Room 3720, U.S. Department of Commerce, Washington, D.C. 20230. Applications may be examined between 8:30 A.M. and 5:00 P.M. at the U.S. Department of Commerce in Room 3720.

Docket Number: 09-067. Applicant: West Virginia University, One Waterfront Place, PO Box 6024, Morgantown, WV 26506. Instrument: Electron Microscope. Manufacturer: JEOL, Japan. Intended Use: The instrument will be used to study the microstructure and chemistry of a variety of metallic, ceramic and semiconductor materials. This instrument is capable of imaging crystal structure and defects from the micron to atomic scale using TEM and HREM. A unique feature of this instrument is an analytical pole piece for high resolution work while maintaining high tilting capability. Justification for Duty-Free Entry: There are no domestic manufacturers of this type of electron microscope. Application accepted by Commissioner of Customs: December 17, 2009.

Docket Number: 10-003. Applicant: St. Lawrence University, 23 Romoda Drive, Canton, NY 13617. Instrument: Electron Microscope. Manufacturer: FEI, Czech Republic. Intended Use: This instrument will be used in the advanced study of diverse fields such as geochemistry, sedimentology and neurophysiology. This instrument has several SE detectors that are optimized for use in high-vacuum, low-vacuum and ultra-low vacuum environments and can be freely switched between these three modes. This allows for the investigation of conductive, non-conductive and high vacuum incompatible specimens. Justification for Duty-Free Entry: No instruments of same general category are manufactured in the United States. Application accepted by Commissioner of Customs: March 3, 2010.

Dated: March 16, 2010.
Christopher Cassel,
Director, IA Subsidies Enforcement Office.

[FR Doc. 2010-6259 Filed 3-19-10; 8:45 am]

BILLING CODE 3510-DS-S